DEPARTMENT OF ENERGY

Federal Energy Regulatory Commission

[Docket No. RP12-74-000]

Gulf South Pipeline Company, LP; Notice of Technical Conference

On November 30, 2011, the Commission accepted and suspended the tariff records that Gulf South Pipeline Company, LP (Gulf South) filed to implement daily allocations on its pipeline system, subject to refund and to the outcome of a technical conference.¹

¹ Gulf South Pipeline Company, LP, 136 FERC ¶ 61,170 (2011).

Take notice that a technical conference to discuss the issues raised by Columbia's filings will be held on Thursday, January 12, 2012 at 10 a.m. (EST), in a room to be designated at the offices of the Federal Energy Regulatory Commission, 888 First Street NE., Washington, DC 20426.

Federal Energy Regulatory Commission conferences are accessible under section 508 of the Rehabilitation Act of 1973. For accessibility accommodations please send an email to accessibility@ferc.gov or call toll free 1-(866) 208-3372 (voice) or (202) 208-1659 (TTY), or send a FAX to (202) 208-2106 with the required accommodations.

All interested persons, parties, and staff are permitted to attend. For further information please contact Brian White at (202) 502-8332.

Dated: December 19, 2011.
Kimberly D. Bose,
Secretary.

[FR Doc. 2011-32987 Filed 12-23-11; 8:45 am]

BILLING CODE 6717-01-P